ENVIRONMENTAL PROTECTION AGENCY

[FRL-7604-2]

Proposed Agreement Pursuant to Section 122(h)(1) of the Comprehensive Environmental Response, Compensation, and Liability Act (CERCLA) for the General Oil Site/Ford Pond Operable Unit in Northville, MI

AGENCY: Environmental Protection Agency (EPA).

ACTION: Notice and request for public comment.

SUMMARY: In accordance with section 122(i)(1) of CERCLA, notification is hereby given of a proposed administrative settlement agreement concerning off-site discharge of PCB-contaminated oil from former oil storage lagoons at the General Oil facility in Northville, Michigan. EPA proposes to enter into this agreement under the authority of sections 122(h) and 107 of CERCLA. The proposed agreement has been executed by Allied Waste Systems, Inc., DaimlerChrysler Corporation, D.A. Stuart Company, Inc., Delphi Corporation, Eaton Corporation, Ford Motor Company, General Motors Corporation, General Oil Corporation, Honeywell, Inc., Indiana Michigan Power Company, LucasVarity Automotive Holding Company, Owens-Illinois, Inc., Reynolds Metals Company, and Tecumseh Products Company (the “Settling Parties”). Under the proposed agreement, the Settling Parties will implement a removal action to address PCB-contaminated oil discharging to a pond in a Northville city park. Also, the Settling Parties will pay $50,000 into a special account to fund costs the Agency will incur in overseeing the work under the agreement. In addition, under the agreement, EPA will waive all of its past response costs ($50,000) incurred at the General Oil Site/Ford Pond Operable Unit. EPA incurred these past response costs in investigating the release of hazardous substances at the site, reviewing and approving remedy proposals, and negotiating a resolution of the case. For thirty days following the date of publication of this notice, the EPA will receive written comments relating to the past cost waiver provisions of this proposed agreement. EPA will consider all comments received and may decide not to enter into the past cost waiver provisions of this proposed agreement if comments disclose facts or considerations which indicate that the past cost waiver is inappropriate, improper or inadequate.

DATES: Comments on the proposed agreement must be received by EPA on or before February 9, 2004.

ADDRESSES: Comments should be addressed to the Docket Clerk, U.S. Environmental Protection Agency, Region 5, 77 West Jackson Boulevard, Chicago, Illinois 60604-3590, and should refer to: In the Matter General Oil Site/Ford Pond Operable Unit, EPA Docket No. V-W-04-C-768.

FOR FURTHER INFORMATION CONTACT: Reginald A. Pallesen, U.S. Environmental Protection Agency, Office of Regional Counsel, C-14J, 77 West Jackson Boulevard, Chicago, Illinois 60604-3590, (312) 886-0555. A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

William E. Muno,
Director, Superfund Division, Region 5.

[FR Doc. 04-460 Filed 1-8-04; 8:45 am]

BILLING CODE 6560-50-P